DEPARTMENT OF ENERGY

Federal Energy Regulatory Commission

[Docket No. CP24-88-000]

Rover Pipeline LLC; Notice of Schedule for the Preparation of an Environmental Assessment for the Rover-Bulger Delivery Meter Station Project

On March 8, 2024, Rover Pipeline LLC (Rover), filed an application in Docket No. CP24-88-000 requesting a Certificate of Public Convenience and Necessity pursuant to section 7(c) of the Natural Gas Act to construct and operate certain natural gas pipeline facilities. The proposed project is known as the Rover-Bulger Delivery Meter Station Project (Project). Rover would construct, own and operate a new delivery point at Rover's Bulger Compressor Station on their Burgettstown Lateral in Washington County, Pennsylvania.

On March 20, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA: July 15, 2024.

90-Day Federal Authorization Decision Deadline: ² October 13, 2024.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

Rover proposes to construct, own, and operate a new pipeline delivery point interconnection at the Rover-Bulger Delivery Meter Station, entirely within Rover's existing Bulger Compressor Station in Washington County, Pennsylvania. The Rover-Bulger Delivery Meter Station Project would allow for delivery of natural gas to ETC Northeast Pipeline LLC's (ETC Northeast) cryogenic processing facility for processing and re-injection of the processed natural gas into Rover's pipeline via the existing Rover-Revolution Receipt Meter Station. According to Rover, the project's interconnection would allow delivery of up to 400,000 dekatherms of natural gas assets per day to ETC Northeast. Rover does not have the authority to construct facilities pursuant to blanket certificate authority under part 157, subpart F of the Commission's regulations, therefore, Rover was required to file an application under part 157 of the Commission's regulations.

Background

On April 2, 2024, the Commission issued a Notice of Scoping Period Requesting Comments on Environmental Issues for the Proposed Rover-Bulger Delivery Meter Station Project (Notice of Scoping). The Notice of Scoping was sent to affected landowners; federal, state, and local government agencies; elected officials; environmental and public interest groups; Native American Tribes; other interested parties; and local libraries and newspapers. In response to the Notice of Scoping, the Commission received comments from Ascent Resources—Utica, LLC., BP Energy Company, and Sweat Law Offices on behalf of the Board of Supervisors of Smith Township, Washington County, Pennsylvania. The primary issues raised by Ascent Resources—Utica, LLC and BP Energy Company are concern for operational and economic harm resulting from the removal of ethane from Rover's gas stream. Sweat Law Offices on behalf of the Board of Supervisors of Smith Township, Washington County, Pennsylvania commented that there have been complaints from residents and members from adjoining municipalities regarding noise from ETC Northeast's activities that are directly related to Rover. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-88-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 17, 2024.
Debbie-Anne A. Reese,
Acting Secretary.

[FR Doc. 2024-11376 Filed 5-22-24; 8:45 am]

BILLING CODE 6717-01-P